SOCIAL SECURITY ADMINISTRATION

Privacy Act of 1974; as Amended; Proposed Alteration to an Existing Privacy Act System of Records, Housekeeping Changes, and New Routine Uses

AGENCY: Social Security Administration (SSA).

ACTION: Altered system of records, housekeeping changes, and routine uses.

SUMMARY: In accordance with the Privacy Act (5 U.S.C. 552a(e)(4) and (e)(11)) we are issuing public notice of our intent to alter an existing system of records, make housekeeping and other miscellaneous changes, and add routine uses applicable to our system of records entitled the Representative Disqualification/Suspension Information System (60-0219), hereinafter referred to as the Representative Disqualification, Suspension, and Non-Recognition Information File.

We propose the following changes:

• Expand the existing category of representatives covered by the Representative Disqualification, Suspension, and Non-Recognition Information File system of records to include persons who allegedly fail to meet our qualifications to serve as a claimant's representative.

• Expand the category of records we maintain in the system to include the name, Social Security number (SSN), date of birth, address, and other relevant information about persons who want to serve as representatives for our claimants. The expanded category will also include information about representatives, such as the representative's date of birth, SSN, representative identification number, telephone and facsimile (fax) numbers, and e-mail address.

We will also include the type of representative (e.g., attorney, non-attorney, eligible direct pay non- attorney), attorney status (e.g., suspended, disqualified, convicted of a violation), bar, court, and Federal agency program admission information (e.g., year admitted, license number, present standing, and disciplinary history), and employer identification number.

• Expand the record storage medium to house records in paper and electronic form.

• Change the system of records name from the Representative Disqualification/Suspension Information System to the Representative Disqualification, Suspension, and Non-Recognition Information File to more accurately reflect the persons and representatives covered by the system of records.

• Add new routine uses 2-4, 6, and 8-10 to allow us to release information about persons who allegedly fail to meet our qualifications to serve as a claimant's representative, representatives whom we have disqualified or suspended from representing claimants and beneficiaries before us, and pursue the investigation of, and litigation against, representatives alleged to have violated the provisions of the Social Security Act or our regulations. We are also adding our data protection routine use to the system of records. The routine use, listed as number 12 in this system of records, will allow us to respond to incidents involving the unintentional release of our records.

• Make edits throughout the document to ensure a more reader-friendly document and correct miscellaneous and stylistic format errors.

We discuss the system of records, housekeeping changes, and new routine uses in the Supplementary Information section below. We invite public comments on this proposal.

DATES: We filed a report of the Representative Disqualification, Suspension, and Non-Recognition Information File system of records and new routine use disclosures with the Chairman of the Senate Committee on Homeland Security and Governmental Affairs, the Chairman of the House Committee on Oversight and Government Reform, and the Director, Office of Information and Regulatory Affairs, Office of Management and Budget (OMB), on April 29, 2010. The altered Representative Disqualification, Suspension, and Non-Recognition Information File system of records and new routine uses will become effective on June 7, 2010, unless we receive comments before that date that would result in a contrary determination.

ADDRESSES: Interested persons may comment on this publication by writing to the Executive Director, Office of Privacy and Disclosure, Office of the General Counsel, Social Security Administration, Room 3-A-6 Operations Building, 6401 Security Boulevard, Baltimore, Maryland 21235-6401. All comments we receive will be available for public inspection at the above address.

FOR FURTHER INFORMATION CONTACT: Christine W. Johnson, Social Insurance Specialist (Senior Analyst), Disclosure Policy Development and Services Division I, Office of Privacy and Disclosure, Office of the General Counsel, Social Security Administration, 3-A-6 Operations Building, 6401 Security Boulevard, Baltimore, Maryland 21235-6401, telephone: (410) 965-8563 or e-mail: chris.w.johnson@ssa.gov.

SUPPLEMENTARY INFORMATION:

I. Background and Purpose of the Representative Disqualification, Suspension, and Non-Recognition Information File System of Records

A. General Background

The Representative Disqualification, Suspension, and Non-Recognition Information File system of records allows us to collect, maintain, and use information about persons who fail to meet our qualifications to serve as representatives for our claimants and beneficiaries, representatives about whom we have received complaints alleging that they have violated the provisions of the Social Security Act or regulations, and representatives who we have disqualified or suspended from representing claimants and beneficiaries in matters before us.

We require the information covered by this system of records to efficiently administer the disqualified or suspended representative business process. For example, the information enables us to identify and monitor persons who fail to meet the criteria to represent our claimants and beneficiaries, determine whether a violation has occurred, investigate alleged violations, and administratively prosecute disciplinary actions against representatives, in a more efficient and timely manner.

B. Discussion of Representative Disqualification, Suspension, and Non-Recognition Information File System of Records

The proposed alteration will significantly strengthen the disqualified and suspended representative business process. The alteration brings together key information that will not only increase our communication and response efficiency, it will also improve accuracy and efficiency in the way we administer the overall disqualified and suspended representative process.

C. Discussion of New Routine Uses

New routine uses 2-4, 6, and 8-10 will enhance our ability to investigate and administratively prosecute disciplinary actions against representatives whom we suspect have violated the Social Security Act or regulations. The routine uses will also expand our ability to inform members of the public and other interested parties that we have disqualified or suspended a representative, or not recognized a person as a claimant's representative.

New data protection routine use number 12 will allow us to disclose information in connection with response and remediation efforts in the event of unintentional release of agency information (a data security breach). Such a routine use serves to protect the interests of the people whose information is at risk by allowing us to take appropriate steps to facilitate a timely and effective response to a data breach. (See 72 FR 69723 (December 10, 2007).)

Accordingly, we are establishing routine uses 2-4, 6, 8-10, and 12 in the Representative Disqualification, Suspension, and Non-Recognition Information File system of records:

2. To a Federal court, State court, administrative tribunal, or bar disciplinary authority in the Federal jurisdiction(s) or State(s) in which an attorney is admitted to practice that we have disqualified or suspended the attorney from representing claimants or beneficiaries before us, and the basis for our action.

We will disclose information under this routine use to Federal and State entities for the purpose of, and to the extent necessary, to inform the entity about the status of, and infractions against, attorneys that we have prohibited from representing our claimants and beneficiaries. We may also disclose information under this routine use for the purpose of assisting the entity to carry out its own investigative and administrative actions.

3. To an official or employee of a Federal, State, or local agency that we have disqualified or suspended a representative from representing claimants and beneficiaries before us, and the basis for our action in order to permit that agency to perform its official duties related to representation of parties before that agency.

We will disclose information under this routine use to a Federal, State, or local entity for the purpose of, and to the extent necessary, to inform the entity about the status of, and infractions against, representatives that we have prohibited from representing our claimants. We may also disclose information under this routine use for the purpose of enabling the entity to determine whether to take independent action.

4. To any person or entity from which we need information to pursue the investigation or litigation of any action against a representative, to the extent necessary to identify the representative about whom the record is maintained, inform the person or entity of the purpose(s) of the request, and identify the type of information needed.

We will disclose information under this routine use to any person or entity for the purpose of, and to the extent necessary, to identify the representative of record, explain the purpose of our request, and identify the type of information we need to facilitate our investigation of, or litigation against, the representative.

6. To the Department of Justice, the Federal Bureau of Investigation, Offices of United States Attorneys, and other Federal law enforcement agencies, for investigation and potential prosecution of violations of the Social Security Act.

We will disclose information under this routine use to the above Federal entities for the purpose of, and to the extent necessary, to effectively represent us in matters concerning violations of the Social Security Act.

8. To the public via our Internet Web site located at http://www.socialsecurity.gov that we have disqualified or suspended a representative from representation before us, or not recognized a person as a claimant's representative.

We will disclose certain information under this routine use to the public for the purpose of informing the public about persons and representatives not authorized to represent claimants before us. We disclose this type information to allow the public to make more informed decisions about potential representatives and to prevent ineligible representatives from representing our claimants.

9. To persons, groups, organizations, or government entities that routinely refer potential claimants or beneficiaries to attorneys or persons other than attorneys for the purpose of putting such persons, groups, organizations, or government entities on notice that we have disqualified or suspended a representative from representation before us, or not recognized a person as a claimant's representative.

We will disclose information under this routine use to persons, groups, organizations, or government entities for the purpose of, and to the extent necessary, to inform them about the status of, and infractions against, representatives that we have prohibited from representing our claimants. We disclose information under this routine use for the purpose of ensuring that only qualified persons and representatives are referred to our claimants and beneficiaries.

10. To any person or entity with whom the representative is affiliated or has indicated that he or she wants to be affiliated in representing claimants before us, for notifying them that we have disqualified or suspended the affiliated or potentially affiliated representative from representation before us, or not recognized that person as a claimant's representative.

We will disclose information under this routine use to current and prospective affiliations of the representative for the purpose of, and extent necessary, to convey that the representative has lost the privilege to represent our claimants or failed to meet our criteria to be recognized as a claimant's representative.

12. To the appropriate Federal, State, and local agencies, entities, and persons when: (1) We suspect or confirm that the security or confidentiality of information in this system of records has been compromised; (2) we determine that as a result of the suspected or confirmed compromise there is a risk of harm to economic or property interests, risk of identity theft or fraud, or harm to the security or integrity of this system or other systems or programs that rely upon the compromised information; and (3) we determine that disclosing the information to such agencies, entities, and persons is necessary to assist in our efforts to respond to the suspected or confirmed compromise and prevent, minimize, or remedy such harm. We will use this routine use to respond to those incidents involving an unintentional release of our records.

We will disclose information under this routine use specifically in connection with response and remediation efforts in the event of an unintentional release of agency information, otherwise known as a “data security breach.” This routine use will protect the interests of the people whose information is at risk by allowing us to take appropriate steps to facilitate a timely and effective response to a data breach. The routine use will also help us improve our ability to prevent, minimize, or remedy any harm that may result from a compromise of data covered by this system of records.

II. Compatibility of Proposed Routine Uses

New routine uses 2-4, 6, and 8-10 will allow us to release information about representatives whom we have disqualified or suspended from representing claimants and persons we have not recognized as a claimant's representative. The routine uses will also improve our ability to investigate and administratively prosecute actions against representatives whom we suspect have violated the Social Security Act or our regulations. In accordance with the Privacy Act (5 U.S.C. 552a(a)(7) and (b)(3)) and our disclosure regulations (20 CFR part 401), we can disclose information maintained in a system of records pursuant to a published routine use when the use is compatible with the purpose for which we collected the information. These routine uses meet the relevant regulatory criteria.

New data protection routine use number 12 will allow us to respond to incidents involving the unintentional release of our records. As mandated by OMB and recommended by the President's Identity Theft Task Force, and in accordance with the Privacy Act and our disclosure regulations, we are permitted to release information under a published routine use for a compatible purpose. Section 401.120 of our regulations provides that we will disclose information required by law. Since OMB has mandated its publication, this routine use is appropriate and meets the relevant statutory and regulatory criteria. In addition, we disclose to other agencies, entities, and persons, when necessary, to respond to an unintentional release. These disclosures are compatible with the reasons we collect the information, as helping to prevent and minimize the potential for harm is consistent w ith taking appropriate steps to protect information entrusted to us. See 5 U.S.C. 552a(e)(10).

III. Records Storage Medium and Safeguards for the Information Covered by the Representative Disqualification, Suspension, and Non-Recognition Information File System of Records

We will maintain, in paper and electronic form, information covered by the Representative Disqualification, Suspension, and Non-Recognition Information File system of records. We will keep paper records in locked cabinets or in other secure areas. We will safeguard the security of the electronic information covered by the Representative Disqualification, Suspension, and Non-Recognition Information File system of records by requiring the use of access codes to enter the computer system that will house the data.

We annually provide all our employees and contractors with appropriate security awareness training that includes reminders about the need to protect personally identifiable information and the criminal penalties that apply to unauthorized access to, or disclosure of, personally identifiable information. See 5 U.S.C. 552a(i)(1). Employees and contractors with access to databases maintaining personally identifiable information must sign a sanction document annually, acknowledging their accountability for inappropriately accessing or disclosing such information.

IV. Effects of the Representative Disqualification, Suspension, and Non-Recognition Information File System of Records and Routine Use Disclosures on the Rights of Individuals

A. Discussion Relating to the Alteration

We propose altering the Representative Disqualification, Suspension, and Non-Recognition Information File system of records as part of our responsibilities in continuing to expand our business processes and protecting our claimants. We will adhere to all applicable statutory requirements, including those under the Social Security Act and the Privacy Act, in carrying out our responsibilities. Therefore, we do not anticipate that the proposed alteration to this system of records will have any adverse effect on the privacy or other rights of the persons or representatives covered by the system of records.

B. Discussion Relating to the New Routine Uses

The new routine uses will enable us to investigate and take action against disqualified or suspended representatives, expand our ability to inform members of the public and other interested parties that we have disqualified, suspended, or not recognized a person as a claimant's representative, and serve to protect the interests of representatives whose information could be at risk. As a result, we do not anticipate that the new routine uses will have any adverse effect on the rights of persons or representatives whose data might be disclosed.

V. Housekeeping and Other Miscellaneous Changes in the Representative Disqualification, Suspension, and Non-Recognition Information File System of Records

We are making housekeeping changes that include changing the system of records name from Representative Disqualification/Suspension Information System to the Representative Disqualification, Suspension, and Non-Recognition Information File system of records to more accurately reflect the persons and representatives covered by the system. The changes also include editing throughout the document to ensure a more reader-friendly document and correcting miscellaneous and stylistic format errors.

Dated: April 29, 2010.
Michael J. Astrue,
Commissioner.

Social Security Administration

Notice of System of Records; Required by the Privacy Act of 1974; as Amended

SYSTEM NUMBER:

60-0219.

SYSTEM NAME:

Representative Disqualification, Suspension and Non-Recognition Information File, Social Security Administration, Office of the General Counsel.

SECURITY CLASSIFICATION:

None.

SYSTEM LOCATION:

Social Security Administration, Office of the General Counsel, Office of General Law, 6401 Security Boulevard, Room 617 Altmeyer Building, Baltimore MD 21235, and Regional Chief Counsels Offices as follows:

OGC Boston, Room 625, JFK Federal Building, Boston, MA 02203.

OGC New York, 26 Federal Plaza, Room 3904, New York, NY 10278.

OGC Philadelphia, 300 Spring Garden Street, 6th Floor, Philadelphia, PA 19123.

OGC Atlanta, Atlanta Federal Center, 61 Forsyth Street SW., Suite 20T45, Atlanta, GA 30303.

OGC Chicago, 200 W. Adams Street, 30th Floor, Chicago, IL 60606.

OGC Dallas, 1301 Young Street, Room A-702, Dallas, TX 75202-5433.

OGC Kansas City, 601 East 12th Street, Room 965, Federal Office Building, Kansas City, MO 64106.

OGC Denver, 1961 Stout Street, Federal Office Building, 10th Floor, Denver, CO 80294.

OGC San Francisco, 333 Market Street, Suite 1500, San Francisco, CA 94105-2116.

OGC Seattle, 701 Fifth Avenue, Suite 2900 M/S 901, Seattle, WA 98104-7075.

CATEGORIES OF PERSONS COVERED BY THE SYSTEM:

This system covers persons who allegedly fail to meet our qualifications to serve as a claimant's representative, as provided by the Social Security Act or regulations relating to representation of claimants and beneficiaries before us. It includes representatives alleged to have violated the provisions of the Social Security Act or our regulations relating to representation of claimants and beneficiaries, representatives whom we have found to have committed such violations and have disqualified or suspended, and representatives we have investigated, but have not disqualified or suspended because we resolved the matter without an action to disqualify or suspend the representative or because we found that a violation did not occur.

CATEGORIES OF RECORDS IN THE SYSTEM:

As applicable, the system will contain information about persons seeking to represent our claimants as well as representatives who have represented claimants and beneficiaries before us. For example, we collect name, date of birth, Social Security number (SSN), representative identification number, home or business address(es), telephone and facsimile (fax) numbers, e-mail address, and type of representative (e.g., attorney, non-attorney, eligible direct pay non-attorney).

The system will also contain information about the representative's legal standing and business affiliations. For example, we collect status of the representative (e.g., suspended, disqualified), bar, court, and Federal program or agency admission information (e.g., year admitted, license number, present standing, and disciplinary history), copies of all documentation resulting from our investigation and actions taken due to violations of the Social Security Act and regulations relating to the representative, and employer identification number. The system will also maintain relevant claimant and beneficiary information.

The following are examples of information covered by this system of records relating to the representation of claimants and beneficiaries: Documentation resulting from our investigation or actions taken due to violations of the Social Security Act or our regulations; Documentation relating to any request for recognition or reinstatement that a non-recognized person or disqualified or suspended representative files with us; documentation pertaining to hearings on charges of alleged violations of the Social Security Act or our regulations; and representation attestations made and information provided on our paper and electronic forms.

The system may also contain documentation pertaining to Appeals Council reviews of the decisions rendered in hearings on charges of violations of the Social Security Act or our regulations, or of requests for reinstatement to practice as a claimant's representative before us; copies of notifications of a representative's disqualification or suspension or a person's non-recognition; documentation pertaining to any legal or administrative action that a disqualified or suspended representative, or non-recognized person brings against us; and documentation of any disclosures made pursuant to the routine uses in this system of records.

AUTHORITY FOR MAINTENANCE OF THE SYSTEM:

Sections 206(a) and 1631(d)(2) of the Social Security Act (42 U.S.C. 406(a) and 1383(d)(2)).

PURPOSE(S):

The Representative Disqualification, Suspension, and Non-Recognition Information File system of records provides us real-time access to information key to decisionmaking in the disqualified or suspended representative business process. For example, the records provide timely access to information we need to make decisions about whether persons meet our qualifications to serve as a claimant's representative and whether violations of the provisions of the Social Security Act or regulations relating to representation have previously occurred.

The records also enable us to more efficiently investigate alleged administrative or criminal violations; take action against representatives; respond to the Appeals Council when a representative has requested reinstatement; provide detailed notice of, and information on, cases in which we have disqualified or suspended a representative; and assist the Department of Justice in Federal court litigation, including that which relates to our decision to disqualify or suspend a representative or not recognize a person as a claimant's representative.

routine uses of records covered by the representative disqualification, suspension, and non-recognition information file system of records system, including categories of users and the purposes of such uses:

Routine use disclosures are indicated below; however, we will not disclose any information defined as “return or return information” under 26 U.S.C. 6103 of the Internal Revenue Code (IRC) unless authorized by the IRC, the Internal Revenue Service (IRS), or IRS regulations.

1. To applicants for benefits or payments, claimants, and beneficiaries to inform them that we have disqualified or suspended the representative from further representation before us or that the person was not recognized as a representative, and the basis for our action.

2. To a Federal court, State court, administrative tribunal, or bar disciplinary authority in the Federal jurisdiction(s) or State(s) in which an attorney is admitted to practice that we have disqualified or suspended the attorney from representing claimants or beneficiaries before us and the basis for our action.

3. To an official or employee of a Federal, State, or local agency that we have disqualified or suspended a claimant's representative from representing claimants and beneficiaries before us, and the basis for our action in order to permit that agency to perform its official duties related to representation of parties before that agency.

4. To any person or entity from which we need information to pursue the investigation or litigation of any action against a representative, to the extent necessary to identify the representative about whom the record is maintained, inform the person or entity of the purpose(s) of the request, and identify the type of information needed.

5. To the Department of Justice (DOJ), a court, other tribunal, or another party before such court or tribunal when:

(a) SSA or any of our components;

(b) Any SSA employee in his or her official capacity;

(c) Any SSA employee in his or her individual capacity when DOJ (or SSA when we are authorized to do so) has agreed to represent the employee; or

(d) The United States, or any agency thereof when we determine that the litigation is likely to affect the operations of SSA or any of its components, is a party to litigation or has an interest in such litigation, and we determine that the use of such records by DOJ, the court, other tribunal, or another party before such court or tribunal is relevant and necessary to the litigation. In each case, however, we must determine that such disclosure is compatible with the purpose for which we collected the records.

6. To DOJ, the Federal Bureau of Investigation, Offices of United States Attorneys, and other Federal law enforcement agencies, for investigation and potential prosecution of violations of the Social Security Act.

7. To a congressional office in response to an inquiry from that office made at the request of the subject of the record or a third party on that person's behalf.

8. To the public via our Internet Web site located at http://www.socialsecurity.gov that we have disqualified or suspended a representative from representation before us, or not recognized a person as a claimant's representative.

9. To persons, groups, organizations, or government entities that routinely refer potential claimants or beneficiaries to attorneys or persons other than attorneys for the purpose of putting such persons, groups, organizations or government entities on notice that we have disqualified or suspended a representative from representation before us, or not recognized a person as a claimant's representative.

10. To any person or entity with whom the representative is affiliated or has indicated that he or she wants to be affiliated in representing claimants before us, notice that we have disqualified or suspended the affiliated or potentially affiliated representative from representation before us, or not recognized that person as a claimant's representative.

11. To the General Services Administration and the National Archives and Records Administration (NARA) under 44 U.S.C. 2904 and 2906, as amended by the NARA Act, information that is not restricted from disclosure by Federal law for their use in conducting records management studies.

12. To the appropriate Federal, State, and local agencies, entities, and persons when: (1) We suspect or confirm that the security or confidentiality of information in this system of records has been compromised; (2) we determine that as a result of the suspected or confirmed compromise there is a risk of harm to economic or property interests, risk of identity theft or fraud, or harm to the security or integrity of this system or other systems or programs that rely upon the compromised information; and (3) we determine that disclosing the information to such agencies, entities, and persons is necessary to assist in our efforts to respond to the suspected or confirmed compromise and prevent, minimize, or remedy such harm. We will use this routine use to respond only to those incidents involving an unintentional release of our records.

13. To the Office of the President in response to an inquiry made at the request of the subject of the record or a third party on that person's behalf.

14. To student volunteers, persons working under a personal services contract, and others who are not technically Federal employees, when they are performing work for us as authorized by law, and they need access to information in our records in order to perform their assigned duties.

15. To Federal, State, and local law enforcement agencies and private security contractors as appropriate, information as necessary:

(a) To enable them to assure the safety of our employees and customers, and the security of our workplace, and the operation of our facilities; or

(b) To assist investigations or prosecutions with respect to activities that affect such safety and security or activities that disrupt the operation of our facilities.

16. To contractors and other Federal agencies, as necessary, for the purpose of assisting us in the efficient administration of our programs. We will disclose information under the routine use only in situations in which we may enter into a contractual or similar agreement with a third party to assist in accomplishing an agency function relating to this system of records.

POLICIES AND PRACTICES FOR STORING, RETRIEVING, ACCESSING, RETAINING, AND DISPOSING OF RECORDS IN THE SYSTEM:

STORAGE:

We will store records in this system in paper and electronic form.

RETRIEVABILITY:

We will retrieve records by SSN, representative identification number, or alphabetically by the representative's name.

SAFEGUARDS:

We retain paper and electronic files with personal identifiers in secure storage areas accessible only to our authorized employees and contractors. We limit access to data with personal identifiers from this system to only authorized personnel who have a need for the information in the performance of their official duties. We annually provide all of our employees and contractors with appropriate security awareness training that includes reminders about the need to protect personally identifiable information and the criminal penalties that apply to unauthorized access to, or disclosure of, personally identifiable information. See 5 U.S.C. 552a(i)(l). Employees and contractors with access to databases maintaining personally identifiable information must sign a sanction document annually, acknowledging their accountability for inappropriately accessing or disclosing such information.

RETENTION AND DISPOSAL:

For purposes of records management dispositions authority, we follow the NARA and Department of Defense (DOD) 5015.2 regulations (DOD Design Criteria Standard for Electronic Records Management Software Applications). We will retain for 25 years records about the non-recognition of a person, the disqualification or suspension of a representative, and the investigation of representatives that we did not suspend or disqualify because we were able to resolve the matter without a disqualification or suspension. We will maintain for 2 years from the date of closure those records that indicate we investigated a representative, but did not disqualify or suspend the representative because we found that a violation did not occur. We will erase or destroy records in electronic form and shred records in paper form.

SYSTEM MANAGER(S) AND ADDRESS(ES):

Associate General Counsel for General Law, Office of the General Counsel, Social Security Administration, 6401 Security Boulevard, Baltimore, MD 21235. Regional Chief Counsels (see addresses in the System Location section of this notice).

NOTIFICATION PROCEDURES:

Persons can determine if this system contains a record about them by writing to the system manager at the above address and providing their name, SSN, or other information in this system of records that will identify them. Persons requesting notification by mail must include a notarized statement to us to verify their identity or they must certify in the request that they are the person they claim to be and understand that the knowing and willful request for, or acquisition of, a record pertaining to another person under false pretenses is a criminal offense.

Persons requesting notification of records in person should provide the same information, as well as provide an identity document, preferably with a photograph, such as a driver's license. Persons lacking identification documents sufficient to establish their identity must certify in writing that they are the person they claim to be and that they understand that the knowing and willful request for, or acquisition of, a record pertaining to another person under false pretenses is a criminal offense.

Persons requesting notification by telephone must verify their identity by providing identifying information that parallels the information in the record to which notification is being requested. If we determine that the identifying information the person provides by telephone is insufficient, the person will be required to submit a request in writing or in person. If a person requests information by telephone on behalf of another person, the subject person must be on the telephone with the requesting person and us in the same telephone call. We will establish the subject person's identity (his or her name, SSN, address, date of birth, and place of birth, along with one other piece of information, such as mother's maiden name) and ask for his or her consent to provide information to the requesting person. These procedures are in accordance with our regulations (20 CFR 401.40 and 401.45).

RECORD ACCESS PROCEDURES:

Same as notification procedures. Requesters also should reasonably specify the record contents they are seeking. These procedures are in accordance with our regulations (20 CFR 401.40(c)).

CONTESTING RECORD PROCEDURES:

Same as notification procedures. Requesters also should reasonably identify the record, specify the information they are contesting, and state the corrective action sought and the reasons for the correction with supporting justification showing how the record is incomplete, untimely, inaccurate, or irrelevant. These procedures are in accordance with our regulations (20 CFR 401.65(a)).

RECORD SOURCE CATEGORIES:

We obtain information covered by this system of records from existing records we maintain (e.g., the Claims Folder System, 60-0089), which contain information relating to the representation of claimants before us.

EXEMPTIONS CLAIMED FOR THE SYSTEM:

None.

[FR Doc. 2010-10668 Filed 5-7-10; 8:45 am]

BILLING CODE P